DEPARTMENT OF HEALTH AND HUMAN SERVICES

Centers for Disease Control and Prevention

Disease, Disability, and Injury Prevention and Control

Special Emphasis Panel: Monitoring and Treatment Programs for the World Trade Center, Program Announcement Number (PA) 04-038.

In accordance with section 10(a)(2) of the Federal Advisory Committee Act (Pub. L. 92-463), the Centers for Disease Control and Prevention (CDC) announces the following meeting:

Name: Disease, Disability, and Injury Prevention and Control Special Emphasis Panel (SEP): Monitoring and Treatment Programs for the World Trade Center, PA 04-038.

Time and Date: 8 a.m.-3 p.m., October 23, 2006 (Closed).

Place: Embassy Suites, 7001 Yampa Street, Denver, Colorado 80249, Telephone 303.574.3000.

Status: The meeting will be closed to the public in accordance with provisions set forth in section 552b(c)(4) and (6), Title 5 U.S.C., and the Determination of the Director, Management Analysis and Services Office, CDC, pursuant to Public Law 92-463.

Matters to be Discussed: The meeting will include the review, discussion, and evaluation of research grant applications in response to Monitoring and Treatment Programs for the World Trade Center, PA 04-038.

For Further Information Contact: M. Chris Langub, Designated Federal Officer, 1600 Clifton Road, NE., MS E74, Atlanta, GA 30333, telephone 404.498.2543.

The Director, Management Analysis and Services Office, has been delegated the authority to sign Federal Register notices pertaining to announcements of meetings and other committee management activities, for both CDC and the Agency for Toxic Substances and Disease Registry.

Dated: September 25, 2006.
Alvin Hall,
Director, Management Analysis and Services Office,Centers for Disease Control and Prevention.

[FR Doc. E6-16234 Filed 9-29-06; 8:45 am]

BILLING CODE 4163-18-P